DEPARTMENT OF JUSTICE

Antitrust Division

Notice Pursuant to the National Cooperative Research and Production Act of 1993—Petroleum Convenience Alliance for Technology Standards

AGENCY: Notice is hereby given that, on September 22, 2004, pursuant to Section 6(a) of the National Cooperative Research and Production Act of 1993, 15 U.S.C. 4301 et seq. (“the Act”), Petroleum convenience Alliance for Technology Standards (“PCATS”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: Petroleum Convenience Alliance for Technology Standards, Alexandria, VA. The nature and scope of PCATS' standards development activities are: (1) Development and maintenance of XML-based standards for electronic data interchange, specifically related to information between point-of-sale (POS) systems and back office systems, and for exchanging data between trading partners for general merchandise, lottery, and motor fuels; (2) development of an “open site” architecture for integration of devices used by petroleum and convenience retailers through peer-to-peer messaging, based on JXTA, an open standard; and (3) maintenance of product codes used in terminal-to-host messages developed by ANSI-Accredited Standards Committee X9, originally contained in Technical Guide-23 (1999) and now being balloted by X9 for adoption as X9.104, Parts 1 and 2.

Dorothy B. Fountain,
Deputy Director of Operations, Antitrust Division.

[FR Doc. 04-26226 Filed 11-26-04; 8:45 am]

BILLING CODE 4410-11-M